SECURITIES AND EXCHANGE COMMISSION

[Release No. 35-27518]

Filings Under the Public Utility Holding Company Act of 1935, as amended (“Act”)

April 12, 2002.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by May 7, 2002, to the Secretary, Securities and Exchange Commission, Washington, DC 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After May 7, 2002, the application(s) and/or declaration(s), as filed or as amended, may be granted and/or permitted to become effective.

Alliant Energy Corporation et al. (70-9323)

Alliant Energy Corporation (“Alliant Energy”), a registered holding company, its subsidiary nonutility holding company, Alliant Energy Resources Corporation (“AER”), both located at 222 West Washington Avenue, Madison, Wisconsin 53703, and AER's nonutility subsidiary, Heartland Properties, Inc. (“Heartland”) (together, “Applicants”), 122 West Washington Avenue, 6th Floor, Madison, Wisconsin 53703, have filed a post-effective amendment to their application-declaration under section 9(c)(3) of the Act and rule 54 under the Act.

By prior Commission orders dated August 13, 1999 (“August 13, 1999 Order”), July 10, 2000 and June 11, 2001 (HCAR Nos. 27060, 27198 and 27418) (collectively, “Orders”), the Commission, among other things, authorized AER, through Heartland or other subsidiaries, to make passive investments in low-income, multi-family housing projects qualifying for Low Income Housing Tax Credits (“LIHTC”), under section 42 of the Internal Revenue Code. The Orders provided that Applicants' investments in LIHTC properties would be undertaken for the sole purpose of obtaining the related tax credits and that all investments would be self-liquidating as the LIHTCs expired.

Under the Orders, the LIHTC investments could be made by acquiring interests in limited partnerships or limited liability companies organized specifically to invest in LIHTC properties. The properties could be located outside of Alliant Energy's service territory. The Orders authorized LIHTC investments in amounts of up to $50 million from time to time, through August 13, 2004 (“Authorization Period”), in addition to the LIHTC investments that were authorized to be retained under the August 13, 1999 Order. As of December 31, 2001, Heartland had invested approximately $22.3 million of the amount authorized under the Orders and has commitments to invest $18 million in LIHTC properties.

The Applicants now propose that the Commission: (1) extend the Authorization Period from August 13, 2004 to June 30, 2007; and (2) increase the investment limit from $50 million to $125 million. The Applicants state that an extended Authorization Period is required to accommodate an expected two-year differential between commitment dates and funding dates for LIHTC investments, which could place some funding dates beyond the Authorization Period. The Applicants state further that increasing the investment limitation to $125 million will allow it to maintain its tax credit cash flow at the year 2002 level of approximately $9.3 million. No other changes or modifications to the terms, conditions or limitations contained in the Orders are proposed.

For the Commission, by the Division of Investment Management, pursuant to delegated authority.
Margaret H. McFarland,
Deputy Secretary.

[FR Doc. 02-9627 Filed 4-18-02; 8:45 am]

BILLING CODE 8010-01-P